DEPARTMENT OF COMMERCE

International Trade Administration

[A-821-801, A-823-801]

Solid Urea From the Russian Federation and Ukraine: Continuation of Antidumping Duty Orders

AGENCY: Import Administration, International Trade Administration, Department of Commerce.

SUMMARY: As a result of the determinations by the Department of Commerce (the Department) and the International Trade Commission (ITC) that revocation of the antidumping duty orders on solid urea from the Russian Federation (Russia) and Ukraine would likely lead to a continuation or recurrence of dumping and material injury to an industry in the United States, the Department is publishing a notice of continuation of the antidumping duty orders.

DATES: Effective Date: December 20, 2011.

FOR FURTHER INFORMATION: Dustin Ross or Minoo Hatten, AD/CVD Operations, Office 1, Import Administration, International Trade Administration, U.S. Department of Commerce, 14th Street and Constitution Avenue NW., Washington, DC 20230; telephone: (202) 482-0747 or (202) 482-1690, respectively.

SUPPLEMENTARY INFORMATION:

Background

On December 1, 2010, the Department initiated and the ITC instituted sunset reviews of the antidumping duty orders on solid urea from Russia and Ukraine,¹ pursuant to section 751(c) of the Tariff Act of 1930, as amended (the Act). See Initiation of Five-Year (“Sunset”) Review, 75 FR 74685 (December 1, 2010); see also Solid Urea From Russia and Ukraine, 75 FR 74746 (December 1, 2010).

¹ On July 14, 1987, the Department published the following antidumping duty order: Antidumping Duty Order; Urea From the Union of Soviet Socialist Republics, 52 FR 26367 (July 14, 1987). In December 1991, the Soviet Union divided into fifteen independent states. On June 29, 1992, the Department transferred the antidumping duty order on solid urea from the Soviet Union to the Commonwealth of Independent States and the Baltic States. See Solid Urea From the Union of Soviet Socialist Republics; Transfer of the Antidumping Duty Order on Solid Urea From the Union of Soviet Socialist Republics to the Commonwealth of Independent States and the Baltic States and Opportunity to Comment, 57 FR 28828 (June 29, 1992).

As a result of these sunset reviews, the Department determined that revocation of the antidumping duty orders on solid urea from Russia and Ukraine would be likely to lead to continuation or recurrence of dumping and notified the ITC of the magnitude of the margins likely to prevail should the orders be revoked. See Solid Urea From the Russian Federation and Ukraine: Final Results of the Expedited Sunset Reviews of the Antidumping Duty Orders, 76 FR 19747 (April 8, 2011).

On November 15, 2011, pursuant to section 752(a) of the Act, the ITC determined that revocation of the antidumping duty orders on solid urea from Russia and Ukraine would likely lead to continuation or recurrence of material injury to an industry in the United States within a reasonably foreseeable time. See Solid Urea From Russia and Ukraine, 76 FR 77015 (December 9, 2011), and ITC Publication 4279 (December 2011) entitled Solid Urea from Russia and Ukraine: Investigation Nos. 731-TA-340-E and 340-H (Third Review).

Scopes of the Orders

The merchandise subject to the orders is solid urea, a high-nitrogen content fertilizer which is produced by reacting ammonia with carbon dioxide. The product is currently classified under the Harmonized Tariff Schedule of the United States (HTSUS) item number 3102.10.00.00. Previously such merchandise was classified under item number 480.3000 of the Tariff Schedules of the United States. Although the HTSUS subheading is provided for convenience and customs purposes, the written description of the merchandise subject to the orders is dispositive.

Continuation of the Orders

As a result of the determinations by the Department and the ITC that revocation of these antidumping duty orders would likely lead to continuation or recurrence of dumping and material injury to an industry in the United States, pursuant to section 751(d)(2) of the Act, the Department hereby orders the continuation of the antidumping duty orders on solid urea from Russia and Ukraine.

U.S. Customs and Border Protection will continue to collect antidumping duty cash deposits at the rates in effect at the time of entry for all imports of subject merchandise. The effective date of continuation of these orders will be the date of publication in the Federal Register of this notice of continuation. Pursuant to section 751(c)(2) of the Act, the Department intends to initiate the next five-year review of these orders not later than 30 days prior to the fifth anniversary of the effective date of continuation.

These five-year sunset reviews and this notice are in accordance with section 751(c) of the Act and published pursuant to section 777(i)(1) of the Act.

Dated: December 13, 2011.
Paul Piquado,
Assistant Secretary for Import Administration.

[FR Doc. 2011-32540 Filed 12-19-11; 8:45 am]

BILLING CODE 3510-DS-P